DEPARTMENT OF COMMERCE

Census Bureau

2020 Census Tribal Consultation

AGENCY: Census Bureau, Department of Commerce.

ACTION: Notice of public meeting.

SUMMARY: The Census Bureau will conduct a virtual tribal consultation on the Proof of Concept for the Detailed Demographic and Housing Characteristics File A (DHC-A) on February 23, 2023. Feedback on the Proof of Concept will help inform final decisions on the 2020 Census Detailed DHC-A. The tribal consultation reflects the Census Bureau's continuous commitment to strengthen nation-to-nation relationships with federally recognized tribes. The Census Bureau's procedures for outreach, notice, and consultation ensure involvement of tribes to the extent practicable and permitted by law before making decisions or implementing policies, rules, or programs that affect federally recognized tribal governments. These meetings are open to citizens of federally recognized tribes by invitation. The Census Bureau provided information on the feedback it is seeking in preparation for the tribal consultation focused on the Proof of Concept for the Detailed DHC-A. In that regard, the Census Bureau is asking tribal governments to review the Proof of Concept and accompanying materials. We would like to hear from tribal nations if they will be impacted positively, negatively, or not at all, if we release the Detailed DHC-A using the current specifications outlined in the Proof of Concept. Please provide the level of geography, description of the use case(s), and implications should the data be released as reflected in this Proof of Concept. The purpose of the tribal consultation is to hear tribes' recommendations.

DATES: The Census Bureau will conduct a tribal consultation on Thursday, February 23, 2023, from 3:00 to 4:30 p.m. EST. Any questions or topics to be considered in the tribal consultation meeting must be received in writing via email by February 1, 2023.

Meeting Information: The Census Bureau tribal consultation registration links are: https://teams.microsoft.com/registration/8RanOlnlzkGlMEfRgxPGAw,TIJcpXM2nESpQgaKulF03g,rT1DtLbTwkezvnebFVFaoQ,ZzDXhAFZE0ek03Iv8U0FIw,PxCl-e6-hUS8tspyPZZeqg,amWW0PlJYEapsx_Qb29SoA?mode=read&tenantId=3aa716f1-e559-41ce-a530-47d18313c603&webinarRing=gcc.

Submit your comments by email. Send comments to: 2020DAS@census.gov.

Deadline date for input: March 2, 2023. In the subject line, put “2020 Census Detailed DHC-A.”

FOR FURTHER INFORMATION CONTACT: Dee Alexander Tribal Affairs Coordinator, Office of Congressional and Intergovernmental Affairs, Intergovernmental Affairs Office, U.S. Census Bureau, Washington, DC 20233; telephone (301) 763-6100; or email at ocia.tao@census.gov.

SUPPLEMENTARY INFORMATION: In accordance with Executive Order 13175, Consultation and Coordination with Indian Tribal Governments, issued November 6, 2000, the Census Bureau has adhered to its tribal consultation policy by seeking the input of tribal governments in the planning and implementation of the 2020 Census with the goal of ensuring the most accurate counts and data for the American Indian and Alaska Native population. The Census Bureau is planning a tribal consultation on February 23, 2023, with federally recognized tribes, so tribes can provide feedback on the Proof of Concept for the Detailed Demographic and Housing Characteristics File A (Detailed DHC-A). The Detailed DHC-A and Detailed DHC-B are successors to the American Indian and Alaska Native Summary File (AIANSF) that was produced in previous censuses. The current Proof of Concept focuses on Detailed DHC-A, and the Census Bureau will provide more information on Detailed DHC-B later. The Detailed DHC-A provides population counts and sex by age statistics for approximately 370 detailed racial and ethnic groups, such as German, Lebanese, Jamaican, Chinese, Native Hawaiian, and Mexican, as well as about 1,200 detailed American Indian and Alaska Native tribal and village population groups, such as Native Village of Hooper Bay (Naparyarmiut) and Navajo Nation. The Proof of Concept demonstrates how the product's differentially private algorithm, called SafeTab-P, determines the amount of data each tribe or village will receive based on population size and geography level while ensuring sufficient confidentiality protections.

Detailed Demographic and Housing Characteristics File A (Detailed DHC-A)

• Subjects: Population counts and sex by age statistics for approximately 370 detailed racial and ethnic groups, such as German, Lebanese, Jamaican, Chinese, Native Hawaiian, and Mexican, as well as about 1,200 detailed American Indian and Alaska Native tribal and village population groups, such as Native Village of Hooper Bay (Naparyarmiut) and Navajo Nation.

• The Detailed DHC-A uses a design that determines the amount of data tribes and villages will receive based on group size and geography level. This design will use minimum population counts to determine eligibility for a total population count table and an age by sex table. The 2010 AIANSF used a single population threshold of 100 for every table in every geographic area (2010 AIANSF technical documentation page 1-1). The proposed thresholds for the 2020 Detailed DHC-A product are determined dynamically and are all less than 100 in the Proof of Concept product.

• Access: data.census.gov.

• Geographies: Nation, state, county, American Indian/Alaska Native/Native Hawaiian (AIANNH) areas, place (cities and towns) and census tract.

• Planned release date: August 2023.

Detailed Demographic and Housing Characteristics File (Detailed DHC-B)

• Subjects: Household type and tenure (i.e., owner- or renter-occupied) for the same detailed race and ethnicity groups and American Indian and Alaska Native tribal and village population groups mentioned for the Detailed DHC-A.

• The Detailed DHC-B has a proposed design similar to the Detailed DHC-A.

• Access: data.census.gov.

• Geographies: Nation, state, county, American Indian/Alaska Native/Native Hawaiian (AIANNH) areas, place (cities and towns) and census tract.

• Planned release date: To be determined.

Submit your comments by email by March 2, 2023. Send comments to: 2020DAS@census.gov with the subject “2020 Census Detailed DHC-A.”

Robert L. Santos, Director, Census Bureau, approved the publication of this notification in the Federal Register.

Dated: January 13, 2023.
Shannon Wink,
Program Analyst, Policy Coordination Office, U.S. Census Bureau.

[FR Doc. 2023-01083 Filed 1-19-23; 8:45 am]

BILLING CODE 3510-07-P